EXPORT-IMPORT BANK OF THE UNITED STATES

Economic Impact Policy

This notice is to inform the public that the Export-Import Bank of the United States has received an application to finance the export of an electron beam furnace to Japan valued at approximately $16 million. The furnace will be fully installed in 2007 and will be used to generate an additional 7,000 metric tons per year of commercial grade titanium ingot. Available information indicates that this new production will be consumed in Japan. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 06-5835 Filed 6-27-06; 8:45 am]

BILLING CODE 6690-01-P